Title 3—

The President

Memorandum of April 12, 2017

Delegation of Authority Under the National Defense Authorization Act for Fiscal Year 2017

Memorandum for the Director of the Federal Bureau of Investigation

By the authority vested in me as President by the Constitution and the laws of the United States of America, I hereby order as follows:

I hereby delegate to the Director of the Federal Bureau of Investigation the authority to submit the report required under section 1907(d) of the National Defense Authorization Act for Fiscal Year 2017 (Public Law 114-328) (the “Act”).

This memorandum's references to the Act shall be deemed to encompass any future Public Law that contains any provision that is the same or substantially the same as section 1907(d) of the Act.

You are authorized and directed to publish this memorandum in the Federal Register.

THE WHITE HOUSE,

Washington, April 12, 2017

[FR Doc. 2017-07785

Filed 4-13-17; 11:15 am]

Billing code 4410-02-P